DEPARTMENT OF HEALTH AND HUMAN SERVICES

Centers for Disease Control and Prevention

[Program Announcement 00116]

Cooperative Agreement to Enhance Pediatric and Pregnancy Nutrition Surveillance Systems Data Items; Notice of Availability of Funds

A. Purpose

The Centers for Disease Control and Prevention (CDC) announces the availability of fiscal year (FY) 2000 funds for a cooperative agreement program for the (1) Pediatric Nutrition Surveillance System (PedNSS), and (2)Pregnancy Nutrition Surveillance System (PNSS).

CDC is committed to achieving the health promotion and disease prevention objectives of “Healthy People 2010” a national activity to reduce morbidity and mortality and improve the quality of life. This announcement is related to the focus areas of Public Health Infrastructure, Nutrition and Overweight; and Maternal, Infant, and Child Health. For the conference copy of “Healthy People 2010,” visit the internet site: <http://www.health.gov/healthypeople>.

The purpose of this program is to improve the capacity to conduct continuous program-based pediatric and pregnancy nutrition surveillance by adding relevant data items to enhance the ability to monitor the health and nutrition-related problems of women and children. For additional background information see Attachment I.

B. Eligible Applicants

Assistance will be provided only to the health departments of States or their bona fide agents that have submitted 1998 or 1999 PedNSS and/or PNSS files which are included in the national PedNSS and/or PNSS reports. Eligible applicants could include the District of Columbia, the Commonwealth of Puerto Rico, the Virgin Islands, the Commonwealth of the Northern Mariana Islands, American Samoa, Guam, federally recognized Indian tribal governments, the Federated States of Micronesia, the Republic of the Marshall Islands, and the Republic of Palau.

C. Availability of Funds

Approximately $250,000 is available in FY 2000 to fund approximately 4 awards. It is expected that the average award will be $60,000, ranging from $45,000 to $65,000. It is expected that the awards will begin on or about September 30, 2000, and will be made for a 12-month budget period within a project period of 1 year. Funding estimates may change.

Use of Funds

Funding Preferences

Funding preference will be given to eligible applicants that submit an application to add Core and Supplemental data items to both the PedNSS and PNSS (Record specifications, field explanations, and code definitions for data items are included in Attachment I).

D. Program Requirements

In conducting activities to achieve the purposes of this program, the recipient will be responsible for the activities under 1. Recipient Activities, and CDC will be responsible for the activities under 2. CDC Activities.

1. Recipient Activities

a. Expand the PedNSS and/or PNSS to include core and supplemental data items that are routinely collected in public health clinics. Applicants should be willing to include the following core data items in their nutrition surveillance system including: (1) Household Income, (2) Household Size, (3) Date of Height and Weight Measure, (4) Date of Hemoglobin/Hematocrit Measure, and (5) for PedNSS only, Date of Most Recent Breastfeeding Response.

In addition, applicants participating in PedNSS shall be willing to add 3 of the 4 PedNSS supplemental data items including: (1) Zip Code, (2) Introduction to Supplementary Feeding, (3) TV/Video Viewing, and (4) Household smoking.

Applicants participating in PNSS shall be willing to add 4 of the 5 PNSS supplemental data items including: (1) Zip Code, (2) Gestational Diabetes, (3) High Blood Pressure During Pregnancy, (4) Pre-pregnancy Multivitamin Consumption, and (5) Multivitamin Consumption During Pregnancy .

b. Plan and implement procedures for ensuring the completeness and quality of the data, including training and data editing.

c. Propose an evaluation strategy to assess the usefulness of the suggested core and supplemental data items for program planning

d. Prepare and disseminate surveillance information through presentation and publication in appropriate forums.

2. CDC Activities

a. Assist in the design of standardized data items, definitions, procedures, and methods to collect the desired surveillance information.

b. Provide training and consultation on the rationale, code definitions and methods to collect new core and supplemental data items.

c. Provide technical support for data processing or assist state participants in developing appropriate data-processing capabilities.

d. Assist the recipient in evaluating the usefulness of the suggested core and supplemental data items.

e. Assist the recipient in preparing and presenting Program-relevant surveillance findings to appropriate state and national audiences.

E. Application Content

Use the information in the Program Requirements, Other Requirements, and Evaluation Criteria sections to develop the application content. Your application will be evaluated on the criteria listed, so it is important to follow them in laying out your program plan. The narrative should be no more than 15 double-spaced pages, printed on one side, with one inch margins, and unreduced font.

1. Table of Contents

2. Plan

a. Define data items to be collected. List the core and supplemental data items that will be included in the revised PedNSS and PNSS transaction files (Record specifications, field explanations, and code definitions for data items are included in Attachment I).

b. Describe the architecture and software of the WIC information system and identify key project staff that will update and test the revised transaction files for PedNSS and PNSS. Include the resume and job descriptions for key project staff in the supporting materials.

c. Define methods to establish data collection for the new core or supplemental data items.

d. Define the process for development and testing of the transaction file(s) to ensure completeness and accuracy of the file(s).

e. Define the process for establishing routine submission of future files.

f. Describe a plan to evaluate the usefulness of the suggested core and supplemental data items.

g. Outline a time schedule for activities listed under c, d, e, and f.

F. Submission and Deadline

Submit the original and two copies of PHS 5161-1 (OMB Number 0937-0189). Forms are available at the following Internet address: www.cdc.gov...Forms, or in the application kit. On or before July 14, 2000, submit the application to the Grants Management Specialist identified in the “Where to Obtain Additional Information” section of this announcement.

Deadline: Applications shall be considered as meeting the deadline if they are either:

(a) Received on or before the deadline date; or

(b) Sent on or before the deadline date. (Applicants must request a legibly dated U.S. Postal Service postmark or obtain a legibly dated receipt from a commercial carrier or U.S. Postal Service. Private metered postmarks shall not be acceptable as proof of timely mailing.)

Late Applications: Applications which do not meet the criteria in (a) or (b) above are considered late applications, will not be considered, and will be returned to the applicant.

G. Evaluation Criteria (100 points)

Each application will be evaluated individually against the following criteria by an independent review group appointed by CDC.

1. The extent to which the applicant states that they will collect and submit new core and supplemental PedNSS and PNSS data items. (10 points)

2. The extent to which the applicant describes the procedures planned to develop and test the transaction files, including methods to establish data collection for any new core and supplemental data items not currently collected by the WIC information system. (30 points)

3. Confirmation of applicant's intention to support future routine file submission. The extent to which the applicant details submission procedures. (20 points)

4. Time schedule: Confirmation that project activities are sequential and will be completed in a timely fashion. (20 points)

5. Capability: The extent to which the applicant demonstrates the organizational capacity and ability to develop and conduct proposed program activities, including the architecture and software of the WIC information system and the key project staff having the responsibility and authority to carry out the program activities, as evidenced by job descriptions and resumes.(20 points)

If applicable, whether the plans for recruitment and outreach for study participants include the process of establishing partnerships with community(ies) and recognition of mutual benefits.

6. Budget (not scored)

The extent to which the budget is reasonable and the budget justification is consistent with the program objectives and purpose.

7. Human Subjects Research (not scored)

Does the application adequately address the requirements of Title 45 CFR Part 46 for the protection of human subjects?

H. Other Requirements

Technical Reporting Requirements

Provide CDC with original plus two copies of:

1. Progress reports (annual);

2. Financial status report, no more than 90 days after the end of the budget period; and

3. Final financial and performance reports, no more than 90 days after the end of the project period.

Send all reports to the Grants Management Specialist identified in the “Where to Obtain Additional Information” section of this announcement.

The following additional requirements are applicable to this program. For a complete description of each, see Attachment II in the application kit.

AR-1 Human Subjects Requirements

AR-2 Requirements for Inclusion of Women and Racial and Ethnic Minorities in Research

AR-7 Executive Order 12372 Review

AR-9 Paperwork Reduction Act Requirements

AR-10 Smoke-Free Workplace Requirements

AR-11 Healthy People 2010

AR-12 Lobbying Restrictions

I. Authority and Catalog of Federal Domestic Assistance Number

This program is authorized under sections 301(a) and 317(k)(2) of the Public Health Service Act, [42 U.S.C. section 241(a) and 42 U.S.C. 247b(k)(2),as amended.

The Catalog of Federal Domestic Assistance number is 93.283.

J. Where To Obtain Additional Information

This announcement and other CDC program announcements can be found on the CDC home page Internet address—http://www.cdc.gov. Click on “Funding” then “Grants and Cooperative Agreements.”

To obtain additional information, contact: Cynthia Collins, Grants Management Specialist, Procurement and Grants Office, Grants Management Branch Announcement 00116, Centers for Disease Control and Prevention (CDC), 2920 Brandywine Road, Room 3000, Atlanta, GA 30341-4146, telephone (770) 488-2757, Email address coc9@cdc.gov.

For program technical assistance, contact: Diane Clark, Deputy Branch Chief, Maternal and Child Nutrition Branch, Division of Nutrition and Physical Activity, National Center for Chronic Disease Prevention and Health Promotion, Centers for Disease Control and Prevention (CDC), 4770 Buford Highway, N.E., Atlanta, Georgia 30341-3717, Telephone (770) 488-5702, Email address: ldc2@cdc.gov.

Dated: May 19, 2000.
John L. Williams,
Director, Procurement and Grants Office, Center for Disease Control and Prevention (CDC).

[FR Doc. 00-13132 Filed 5-24-00; 8:45 am]

BILLING CODE 4163-18-P